DEPARTMENT OF THE INTERIOR

Minerals Management Service

Environmental Documents Prepared for Proposed Oil, Gas, and Mineral Operations by the Gulf of Mexico Outer Continental Shelf (OCS) Region

AGENCY: Minerals Management Service, Interior.

ACTION: Notice of the availability of Environmental Documents Prepared for OCS Mineral Proposals by the Gulf of Mexico OCS Region.

SUMMARY: Minerals Management Service (MMS), in accordance with Federal Regulations that implement the National Environmental Policy Act (NEPA), announces the availability of NEPA-related Site-Specific Environmental Assessments (SEA) and Findings of No Significant Impact (FONSI), prepared by MMS for the following oil-, gas-, and mineral-related activities proposed on the Gulf of Mexico and Atlantic OCS.

FOR FURTHER INFORMATION CONTACT: Public Information Unit, Information Services Section at the number below. Minerals Management Service, Gulf of Mexico OCS Region, Attention: Public Information Office (MS 5034), 1201 Elmwood Park Boulevard, Room 114, New Orleans, Louisiana 70123-2394, or by calling 1-800-200-GULF.

SUPPLEMENTARY INFORMATION: MMS prepares SEAs and FONSIs for proposals that relate to exploration, development, production, and transport of oil, gas, and mineral resources on the Federal OCS. These SEAs examine the potential environmental effects of activities described in the proposals and present MMS conclusions regarding the significance of those effects. Environmental Assessments are used as a basis for determining whether or not approval of the proposals constitutes major Federal actions that significantly affect the quality of the human environment in the sense of NEPA Section 102(2)(C). A FONSI is prepared in those instances where MMS finds that approval will not result in significant effects on the quality of the human environment. The FONSI briefly presents the basis for that finding and includes a summary or copy of the SEA.

This notice constitutes the public notice of availability of environmental documents required under the NEPA Regulations.

Activity/operator | Location | Date
TGS-NOPEC Geophysical Company, Geological & Geophysical Prospecting for Mineral Resources, SEA L08-88 | Located in the central Gulf of Mexico south of Venice, Louisiana | 11/28/2008
TGS-NOPEC Geophysical Company, Geological & Geophysical Prospecting for Mineral Resources, SEA L08-91 | Located in the central Gulf of Mexico south of Venice, Louisiana | 11/28/2008
Union Oil Company of California, Permit to Modify to Remove Well 001 Using Explosive Severance Methods, SEA ES/SR APM EB205-001 | East Breaks, Block 205, Lease OCS-G 17237, located 93 miles to the nearest Texas shoreline | 1/5/2009
ExxonMobil Production Company, Structure Removal, SEA ES/SR 08-175 | High Island, Block 193, Lease OCS-G 03237, located 18 miles from the nearest Texas shoreline | 1/5/2009
Apache Corporation, Structure Removal, SEA ES/SR 08-050B | High Island, Block A6, Lease OCS-G 04734, located 34 miles from the nearest Texas shoreline | 1/9/2009
Devon Energy Corporation, Exploration Plan for Seismic Activities, SEA R-4912 | Keathley Canyon, Block 596, Lease OCS-G 19600, located 215 miles south of Morgan City, Louisiana | 1/12/2009
Mariner Energy, Inc., Structure Removal, SEA ES/SR 08-134 | Brazos, Block 541, Lease OCS-G 14812, located 30 miles from the nearest Texas shoreline | 1/13/2009
Maritech Resources, Inc., Structure Removal, SEA ES/SR 07-115A | Ship Shoal, Block 299, Lease OCS-G 07759, located 62 miles from the nearest Louisiana shoreline | 1/13/2009
Chevron U.S.A., Inc., Revised Exploration Plan, Geological & Geophysical Exploration for Mineral Resources, SEA R-4908 AA | Walker Ridge, Block 316, Lease OCS-G 25246, located 180 miles south of Morgan City, Louisiana | 1/13/2009
Stone Energy Corporation, Structure Removal, SEA ES/SR 08-170 | West Cameron, Block 176, Lease OCS-G 00762, located 23 miles from the nearest Louisiana shoreline | 1/13/2009
Newfield Exploration Company, Revised Exploration Plan, Geological & Geophysical Exploration for Mineral Resources, SEA R-4913 AA | Garden Banks, Block 605, Lease OCS-G 31634, located 149 miles south of Intracoastal City, Louisiana | 1/14/2009
Energy Partners, LTD, Structure Removal, SEA ES/SR 08-150 | East Cameron, Block 196, Lease OCS-G 16244, located 40 miles from the nearest Louisiana shoreline | 1/22/2009
Apache Corporation, Structure Removal, SEA ES/SR 09-009 | Matagorda Island, Block 623, Lease OCS-G 03088, located 17 miles from the nearest Texas shoreline | 1/22/2009
Mariner Energy, Inc., Structure Removal, SEA ES/SR 09-006 | West Cameron, Block 110, Lease OCS-G 00081, located 18 miles from the nearest Louisiana shoreline | 1/22/2009
Energy Resource Technology GOM, Inc., Structure Removal, SEA ES/SR 07-002A | Brazos, Block 436, Lease OCS-G 04258, located 14 miles from the nearest Louisiana shoreline | 1/30/2009
Bois D'Arc Offshore, LTD, Structure Removal, SEA ES/SR 09-001, 09-002, 09-003 | Ship Shoal, Block 94, Lease OCS-00042, located 10 miles from the nearest Louisiana shoreline | 1/30/2009
Chevron U.S.A., Inc., Structure Removal, SEA ES/SR 97-145A | South Timbalier, Block 22, Lease OCS 00165, located 4 miles from the nearest Louisiana shoreline | 1/30/2009
Energy XXI GOM, LLC, Structure Removal, SEA ES/SR 09-007, 09-008 | West Cameron, Block 248, Lease OCS-G 09408, located 44 miles from the nearest Louisiana shoreline | 1/30/2009
TGS-NOPEC Geophysical Company, Geological & Geophysical Prospecting for Mineral Resources, SEA M09-01 | Located in the eastern Gulf of Mexico | 2/2/2009
Murphy Exploration & Production Company-USA, Initial Exploration Plan, SEA N-9315 | DeSoto Canyon, Blocks 90, 91 & 134, Leases OCS-G 10442, 10443 & 23488 respectively, located 80 miles from the nearest Louisiana shoreline, 91 miles from the nearest Mississippi shoreline, 85 miles from the nearest Alabama shoreline, 92 miles from the nearest Florida shoreline | 2/5/2009
EMGS Americas, Geological & Geophysical Prospecting for Mineral Resources, SEA M08-12 | Located in the central and eastern Gulf of Mexico, south of Mobile, Alabama | 2/5/2009
BP Exploration & Production, Inc., Exploration Plan for Seismic Activities, SEA R-4915 AA | Green Canyon, Block 742, Lease OCS-G 15607, located 130 miles south of Lafourche Parish, Louisiana | 2/6/2009
Coastal Planning & Engineering, Inc., Geological & Geophysical Prospecting for Mineral Resources, SEA M08-06 | Located off the coast of Longboat Key, Florida, on the Federal Outer Continental Shelf of the Gulf of Mexico | 2/6/2009
Energy XXI GOM, LLC, Structure Removal, SEA ES/SR 09-013 | South Timbalier, Block 21, Lease OCS 00263, located 4 miles from the nearest Louisiana shoreline | 2/6/2009
Apache Corporation, Lease-Term Pipeline Bundle, SEA P-17683, P-17684, P-17685 | High Island, Block A-376, Lease OCS-G 02754, located 120 miles from the nearest Louisiana shoreline | 2/10/2009
Helis Oil & Gas Company, LLC, Structure Removal, SEA ES/SR 09-017 | Brazos, Block 417, Lease OCS-G 22190, located 32 miles from the nearest Texas shoreline | 2/13/2009
Apache Corporation, Structure Removal, SEA ES/SR 08-012 | High Island, Block A572, Lease OCS-G 02392, located 118 miles from the nearest Texas shoreline | 2/13/2009
EPL Energy Partners, LTD, Structure Removal, SEA ES/SR 08-151 | West Cameron, Block 98, Lease OCS-G 12757, located 13 miles from the nearest Louisiana shoreline | 2/13/2009
Helis Oil & Gas Company, LLC, Structure Removal, SEA ES/SR 08-159A, 08-162A | Brazos, Block 417, Lease OCS-G 22190 and Galveston, Block 418, Lease OCS-G 18921, located 32 and 21 miles respectively from the nearest Texas shoreline | 2/23/2009
Helis Oil & Gas Company, LLC, Structure Removal, SEA ES/SR 09-017A | Brazos, Block 417, Lease OCS-G 22190, located 32 miles from the nearest Texas shoreline | 2/23/2009
Chevron U.S.A., Inc., Structure Removal, SEA ES/SR 89-068A | Chandeleur, Block 014, Lease OCS-G 05734, located 25 miles from the nearest Louisiana shoreline | 2/23/2009
Transcontinental Gas Pipe Line Corporation, Structure Removal, SEA ES/SR 09-004 | High Island, Block 157, Lease OCS-G 12370, located 22 miles from the nearest Texas shoreline | 2/23/2009
Maritech Resources, Inc., Structure Removal, SEA ES/SR 06-108A | High Island, Block 208, Lease OCS-G 07286, located 25 miles from the nearest Texas shoreline | 2/23/2009
Fairfield Industries, Geological & Geophysical Prospecting for Mineral Resources, SEA L09-01 | Located in the central Gulf of Mexico, south of Cameron, Louisiana | 2/23/2009
CGGVeritas, Geological & Geophysical Prospecting for Mineral Resources, SEA T09-01 | Located in the western Gulf of Mexico, 45 miles south of Matagorda County, Texas | 2/23/2009
ERT, Structure Removal, SEA ES/SR 09-010, 09-011, 09-012 | South Pelto, Block 20, Lease OCS-G 00074, located 7 miles from the nearest Louisiana shoreline | 2/23/2009
Energy Resource Technology GOM, Inc., Structure Removal, SEA ES/SR 09-014, 09-015 | Vermilion, Block 21, Lease OCS-G 03119 & 02865 respectively, located 7 miles from the nearest Louisiana shoreline | 2/23/2009
ATP Oil & Gas Corporation, Structure Removal, SEA ES/SR 07-060A | Vermilion, Block 318, Lease OCS-G 04427, located 86 miles from the nearest Louisiana shoreline | 2/23/2009
Devon Energy Production Company, LP, Structure Removal, SEA ES/SR 09-026, 09-027 | Eugene Island, Block 125 & 119, Leases OCS-G 00051 & 00049 respectively, located 30 miles from the nearest Louisiana shoreline | 3/3/2009
Prime Offshore, LLC, Structure Removal, SEA ES/SR 06-123A, 08-145A | North Padre Island, Blocks 996 & 998, Leases OCS-G 23123 & 23130, located 25 and 20 miles from the nearest Texas shoreline, respectively | 3/3/2009
W & T Offshore, Inc., Structure Removal, SEA ES/SR 09-021 | South Marsh Island, Block 28, Lease OCS-G 09536, located 50 miles from the nearest Louisiana shoreline | 3/3/2009
Energy Resource Technology GOM, Inc., Structure Removal, SEA ES/SR 09-019 | South Pelto, Block 20, Lease OCS 00074, located 7 miles from the nearest Louisiana shoreline | 3/3/2009
ExxonMobil Production Company, Structure Removal, SEA ES/SR 09-022 | West Delta, Block 100, Lease OCS-G 03188, located 21 miles from the nearest Louisiana shoreline | 3/3/2009
Prime Offshore, LLC, Structure Removal, SEA ES/SR 08-155A | South Padre Island, Block 1145, Lease OCS-G 24304, located 16 miles from the nearest Texas shoreline | 3/5/2009
Chevron U.S.A., Inc., Initial Exploration Plan, SEA N-9298 | Viosca Knoll, Block 383, Lease OCS-G 27977, located 40 miles from the nearest Alabama shoreline | 3/5/2009
Chevron U.S.A., Inc., Structure Removal, SEA ES/SR 07-061A | South Timbalier, Block 151, Lease OCS-G 00463, located 32 miles from the nearest Louisiana shoreline | 3/6/2009
Linder Oil Company, A Partnership, Structure Removal, SEA ES/SR 09-005 | East Cameron (South Addition), Block 245, Lease OCS-G 00970, located 80 miles from the nearest Louisiana shoreline | 3/11/2009
Linder Oil Company, A Partnership, Structure Removal, SEA ES/SR 09-016 | East Cameron, Block 149, Lease OCS-G 13865, located 42 miles from the nearest Louisiana shoreline | 3/11/2009
Maritech Resources, Inc., Structure Removal, SEA ES/SR 09-028 | Sabine Pass, Block 012, Lease OCS-G 14590, located 15 miles from the nearest Louisiana shoreline | 3/11/2009
Shell Offshore, Inc., Structure Removal, SEA ES/SR 09-018 | Eugene Island, Block 331, Lease OCS-G 02116, located 80 miles from the nearest Louisiana shoreline | 3/12/2009
Chevron U.S.A., Inc., Structure Removal, SEA ES/SR 08-066A | South Timbalier, Block 135, Lease OCS-G 00642, located 29 miles from the nearest Louisiana shoreline | 3/12/2009
BP Exploration & Production, Inc., Structure Removal, SEA ES/SR 03-202A | South Marsh Island, Block 205, Lease OCS-G 05475, located 98 miles from the nearest Louisiana shoreline | 3/13/2009
Shell Offshore, Inc., Initial Exploration Plan, SEA N-9317 | DeSoto Canyon, Block 939, Lease OCS-G 31591, located 133 miles from the nearest Louisiana shoreline, 173 miles from the nearest Mississippi shoreline, 154 miles from the nearest Alabama shoreline and 155 miles from the nearest Florida shoreline | 3/17/2009
Energy Resource Technology GOM, Inc., Structure Removal, SEA ES/SR 09-020 | Vermilion, Block 222, Lease OCS-G 02865, located 7 miles from the nearest Louisiana shoreline | 3/17/2009
Energy XXI GOM, LLC, Structure Removal, SEA ES/SR 09-023 | Eugene Island, Block 256, Lease OCS-G 02102, located 53 miles from the nearest Louisiana shoreline | 3/19/2009
W & T Offshore, Inc., Structure Removal, SEA ES/SR 09-033 | South Marsh Island, Block 28, Lease OCS-G 09536, located 50 miles from the nearest Louisiana shoreline | 3/24/2009
Energy Resource Technology GOM, Inc., Permit to Modify to Remove Well 001 Using Explosive Severance Methods, SEA ES/SR APM SM123-001 | South Marsh Island, Block 123, Lease OCS-G 23845, located 31 miles from the nearest Louisiana shoreline | 3/25/2009
McMoran Oil & Gas, LLC, Structure Removal, SEA ES/SR 09-038 | Ship Shoal, Block 139, Lease OCS-G 21115, located 21 miles from the nearest Louisiana shoreline | 3/31/2009

Persons interested in reviewing environmental documents for the proposals listed above or obtaining information about SEAs and FONSIs prepared by the Gulf of Mexico OCS Region are encouraged to contact MMS at the address or telephone listed in the FOR FURTHER INFORMATION section.

Dated: April 13, 2009.
Lars Herbst,
Regional Director, Gulf of Mexico OCS Region.

[FR Doc. E9-10293 Filed 5-4-09; 8:45 am]

BILLING CODE 4310-MR-P